DEPARTMENT OF COMMERCE

International Trade Administration

[C-570-911]

Circular Welded Carbon Quality Steel Pipe from the People's Republic of China: Rescission of Countervailing Duty Administrative Review

AGENCY: Import Administration, International Trade Administration, Department of Commerce.

EFFECTIVE DATE: October 28, 2009.

FOR FURTHER INFORMATION CONTACT: Mary Kolberg at (202) 482-1785; AD/CVD Operations, Office 1, Import Administration, International Trade Administration, U.S. Department of Commerce, 14th Street and Constitution Avenue, NW, Washington, DC 20230.

SUPPLEMENTARY INFORMATION:

Background

On July 1, 2009, the Department of Commerce (“the Department”) published a notice announcing the opportunity to request an administrative review of the countervailing duty order on circular welded carbon quality steel pipe (“circular pipe”) from the People's Republic of China (“PRC”). See Antidumping or Countervailing Duty Order, Finding, or Suspended Investigation; Opportunity To Request Administrative Review, 74 FR 31406 (July 1, 2009). On July 31, 2009, the Ad Hoc Coalition for Fair Pipe Imports and its individual members, Allied Tube & Conduit, IPSCO Tubulars, Inc., Northwest Pipe Company, Sharon Tube Company, Western Tube & Conduit Corporation, and Wheatland Tube Company (collectively, “Petitioners”) timely requested an administrative review of ten exporters and producers covering the period November 13, 2007, through December 31, 2008. In accordance with 19 CFR 351.221(c)(1)(i), the Department published a notice initiating an administrative review of the countervailing duty order on circular pipe from the PRC. See Initiation of Antidumping and Countervailing Duty Administrative Reviews and Request for Revocation in Part, 74 FR 42873 (August 25, 2009).

Rescission of Review

Pursuant to 19 CFR 351.213(d)(l), the Secretary will rescind an administrative review, in whole or in part, if the party that requested a review withdraws the request within 90 days of the date of publication of the notice of initiation of the requested review. On September 30, 2009, Petitioners withdrew their request for review of all ten exporters and producers within the 90-day period, and no other party requested a review. Therefore, in response to Petitioners' withdrawal, and as no one else requested a review, the Department is rescinding this administrative review.

Assessment

The Department will instruct U.S. Customs and Border Protection (“CBP”) to assess countervailing duties at the cash deposit rate in effect on the date of entry, for entries during the period November 13, 2007, through March 12, 2008 and from July 21, 2008, through December 31, 2008. Pursuant to section 703(d) of the Tariff Act of 1930, as amended (“the Act”), suspension of liquidation was discontinued on March 12, 2008, and no countervailing duties will be assessed on entries between March 12, 2008, and July 21, 2008. The Department intends to issue appropriate assessment instructions to CBP 15 days after the date of publication of this notice of rescission of administrative review.

Notification Regarding Administrative Protective Order

This notice serves as a final reminder to parties subject to administrative protection orders (“APO”) of their responsibility concerning the disposition of proprietary information disclosed under APO in accordance with 19 CFR 351.305(a)(3). Timely written notification of the return/destruction of APO materials or conversion to judicial protective order is hereby requested. Failure to comply with the regulations and terms of an APO is a sanctionable violation.

This notice of rescission is issued and published in accordance with sections 751(a)(l) and 777(i)(l) of the Act and 19 CFR 351.213(d)(4).

Dated: October 21, 2009.
John M. Andersen,
Acting Deputy Assistant Secretary for Antidumping and Countervailing Duty Operations.

[FR Doc. E9-25952 Filed 10-27-09; 8:45 am]

BILLING CODE 3510-DS-S